LEGAL SERVICES CORPORATION

Pro Bono Innovation Fund Process for Submitting Pre-Applications for 2026 Grants; Correction

AGENCY: Legal Services Corporation.

ACTION: Notice; correction.

SUMMARY: The Legal Services Corporation (LSC) published a document in the Federal Register of November 19, 2025, concerning the application process for 2026 Pro Bono Innovation Fund grants. The document contained incorrect dates.

FOR FURTHER INFORMATION CONTACT: Katherine Harris, Special Grant Program Coordinator, Office of Program Performance, Legal Services Corporation, 1825 I Street NW, Suite 800, Washington, DC, 20006; (202) 295-1572 or harrisk@lsc.gov.

SUPPLEMENTARY INFORMATION:

Correction

In the Federal Register of November 19, 2025, in FR Doc. 2025-20310, on page 52115, in the first column, correct the subject heading and the SUMMARY and DATES captions to read:

Subject Heading: Pro Bono Innovation Fund; Process for Submitting Pre-Applications for 2026 Grants.

SUMMARY: The Legal Services Corporation (LSC) issues this Notice describing the conditions for submitting a Pre-Application for 2026 Pro Bono Innovation Fund grants.

DATES: Pre-applications must be submitted by 11:59 p.m. EST on Thursday, January 15, 2026.

(Authority: 42 U.S.C. 2996g(e).)

Dated: December 5, 2025.
Stefanie Davis,
Deputy General Counsel, Legal Services Corporation.

[FR Doc. 2025-22332 Filed 12-8-25; 8:45 am]

BILLING CODE P